DEPARTMENT OF ENERGY

Federal Energy Regulatory Commission

Combined Notice of Filings #1

Take notice that the Commission received the following electric corporate filings:

Docket Numbers: EC15-203-000.

Applicants: Grant Wind, LLC.

Description: Application for Authorization under Section 203 of the Federal Power Act and Request for Expedited Consideration, Confidential Treatment and Waivers of Grant Wind, LLC.

Filed Date: 9/4/15.

Accession Number: 20150904-5426.

Comments Due: 5 p.m. ET 9/25/15.

Take notice that the Commission received the following exempt wholesale generator filings:

Docket Numbers: EG15-123-000.

Applicants: Moxie Freedom LLC.

Description: Notice of Self-Certification of EWG Status of Moxie Freedom LLC under EG15-123.

Filed Date: 9/8/15.

Accession Number: 20150908-5095.

Comments Due: 5 p.m. ET 9/29/15.

Take notice that the Commission received the following electric rate filings:

Docket Numbers: ER15-524-002.

Applicants: Tucson Electric Power Company.

Description: Compliance filing: Compliance Filing to be effective 5/15/2015.

Filed Date: 9/8/15.

Accession Number: 20150908-5137.

Comments Due: 5 p.m. ET 9/29/15.

Docket Numbers: ER15-584-001.

Applicants: ISO New England Inc., Connecticut Transmission Municipal Electric Energy Cooperative.

Description: Compliance filing: CT Transmission Municipal Electric Energy Cooperative—Compliance Filing to be effective 11/17/2014.

Filed Date: 9/8/15.

Accession Number: 20150908-5085.

Comments Due: 5 p.m. ET 9/29/15.

Docket Numbers: ER15-1407-002.

Applicants: Midcontinent Independent System Operator, Inc.

Description: Report Filing: 2015-09-08_SA 2767 Refund Report of ATC-Manitowoc CFA to be effective N/A.

Filed Date: 9/8/15.

Accession Number: 20150908-5086.

Comments Due: 5 p.m. ET 9/29/15.

Docket Numbers: ER15-2380-000.

Applicants: Willey Battery Utility, LLC.

Description: Amendment to August 5, 2015 Willey Battery Utility, LLC tariff filing.

Filed Date: 9/4/15.

Accession Number: 20150904-5166.

Comments Due: 5 p.m. ET 9/25/15.

Docket Numbers: ER15-2621-000.

Applicants: Pacific Gas and Electric Company.

Description: § 205(d) Rate Filing: Revisions to the Plumas-Sierra Operating Agreement to be effective10/31/2015.

Filed Date: 9/8/15.

Accession Number: 20150908-5011.

Comments Due: 5 p.m. ET 9/29/15.

Docket Numbers: ER15-2622-000.

Applicants: California Independent System Operator Corporation.

Description: Transmission Access Charge Informational Filing, et al. of the California Independent System Operator Corporation.

Filed Date: 9/4/15.

Accession Number: 20150904-5405.

Comments Due: 5 p.m. ET 9/25/15.

Take notice that the Commission received the following electric reliability filings:

Docket Numbers: RR15-14-000.

Applicants: North American Electric Reliability Corporation.

Description: Errata (correction and clarification) to August 14, 2015 Petition of North American Electric Reliability Corporation for Approval of the Amendments, et. al.

Filed Date: 9/3/15.

Accession Number: 20150903-5222.

Comments Due: 5 p.m. ET 9/17/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 8, 2015.
Nathaniel J. Davis, Sr.,
Deputy Secretary.

[FR Doc. 2015-23011 Filed 9-11-15; 8:45 am]

BILLING CODE 6717-01-P